OVERSEAS PRIVATE INVESTMENT CORPORATION

September 18, 2008 Board of Directors Meeting

Time and Date: Thursday, September 18, 2008, 10 a.m. (Open Portion); 10:15 a.m. (Closed Portion).

Place: Offices of the Corporation, Twelfth Floor Board Room, 1100 New York Avenue, NW., Washington, DC.

Status: Meeting OPEN to the Public from 10 a.m. to 10:15 a.m. Closed portion will commence at 10:15 a.m. (approx.).

Matters To Be Considered:

1. President's Report

2. Approval of July 17, 2008 Minutes (Open Portion)

Further Matters To Be Considered: (Closed to the Public 10:15 a.m.)

1. Report from Audit Committee

2. Finance Project—Costa Rica, El Salvador, Guatemala, Honduras

3. Finance Project—Liberia

4. Finance Project—South Africa

5. Finance Project—Mexico, Nicaragua, El Salvador, Peru, Armenia, Azerbaijan, Georgia, Kazakhstan, Kyrgyzstan, Tajikistan, Cambodia, Bosnia, Kenya

6. Finance Project—Botswana

7. Finance Project—Bulgaria and the Balkans

8. Finance Project—Asia

9. Finance Project—South Asia

10. Finance Project—Global

11. Finance Project—Global

12. Finance Project—Global

13. Finance Project—Global

14. Finance Project—Latin America

15. Finance Project—Latin America

16. Finance Project—Latin America

17. Finance Project—Mexico and Central America

18. Finance Project—Central and South America

19. Approval of July 17, 2008 Minutes (Closed Portion)

20. Pending Major Projects

21. Reports

Contact Person for Information: Information on the meeting may be obtained from Connie M. Downs at (202) 336-8438.

Dated: September 3, 2008.
Connie M. Downs,
Corporate Secretary, Overseas Private Investment Corporation.

[FR Doc. E8-20754 Filed 9-3-08; 4:15 pm]

BILLING CODE 3210-01-P